POSTAL REGULATORY COMMISSION

[Docket No. MC2015-8; Order No. 5351]

Market Dominant Products

AGENCY: Postal Regulatory Commission.

ACTION: Notice.

SUMMARY: The Commission is noticing a recent Postal Service filing requesting the removal of Return Receipt for Merchandise Service from the Market Dominant product list. This notice informs the public of the filing, invites public comment, and takes other administrative steps.

DATES: Comments are due: January 9, 2020.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Background

II. Notice of Commission Action

III. Ordering Paragraphs

On December 10, 2019, the Postal Service filed a renewed request to remove Return Receipt for Merchandise (RRM) service from the Mail Classification Schedule (MCS).¹ For the reasons discussed below, the Commission reopens the docket to consider matters concerning this request.

¹ Renewed Request of the United States Postal Service to Remove Return Receipt for Merchandise and Motion to Reopen Docket, December 10, 2019 (Renewed Request).

I. Background

The Postal Service filed its original request to remove the RRM service from the MCS on November 17, 2014.² The Commission approved the request but found that the removal was subject to adjustments to the unused rate adjustment authority for the Special Services class.³ Subsequently, the Postal Service provided notice that it elected to indefinitely defer the removal.⁴ After a series of appeals, the D.C. Circuit issued its opinion on April 6, 2018, vacating the Commission's previous orders on the removal of the RRM service.⁵

² Request of the United States Postal Service to Remove Return Receipt for Merchandise Service from the Mail Classification Schedule, November 17, 2014.

³ Order Conditionally Approving Removal of Return Receipt for Merchandise Service from Mail Classification Schedule, January 15, 2015 (Order No. 2322).

⁴ Response of the United States Postal Service to Order No. 2322, January 28, 2015.

⁵ See United States Postal Serv. v. Postal Reg. Comm'n, No. 16-14 (D.C. Cir. Apr. 6, 2018) (RRM Opinion).

On August 29, 2019, the Commission closed Docket Nos. MC2015-8 and MC2015-8R because it had been more than one year since the RRM Opinion and the Postal Service had not indicated a renewed intent to discontinue the RRM service.⁶ The Commission directed the Postal Service to file a request in a new docket if it decided to discontinue RRM service in the future. Order No. 5214 at 3. The Commission also held that it would evaluate any future requests to remove a product from the MCS in light of the RRM Opinion. Id.

⁶ Order Closing Dockets, August 29, 2019, at 3 (Order No. 5214).

In its renewed request, the Postal Service asks the Commission to reopen this docket because it contains the record on which the Postal Service relies in renewing its request.⁷ Moreover, the Postal Service seeks expedited review of this request. Id. The Postal Service states that the Commission has already held that the removal of the RRM service comports with 39 U.S.C. 3642 and 39 CFR 3020.30 et seq., and therefore, no new Section 3642 analysis is necessary. Id. In addition, the Postal Service asserts that there have been no material changes concerning RRM service since 2015 that require revisiting the Commission's findings in Order No. 2322 on removal. Id. at 3. Thus, the Postal Service requests that the Commission reinstate its original finding that the removal of RRM service comports with 39 U.S.C. 3642 and 39 CFR 3020.30 et seq. Id. The Postal Service attached proposed changes to the MCS should the Commission approve the request. See Renewed Request, Attachment A.

⁷ Renewed Request at 1 (citing Order No. 2322).

II. Notice of Commission Action

Although the Commission directed the Postal Service to file a request to discontinue RRM service in a new docket, the Commission finds that the Postal Service has set forth good cause to reopen this docket. In support of its Renewed Request, the Postal Service relies on the information previously provided, and approved by the Commission, in its original request for removal of the RRM service. Accordingly, the Postal Service's motion to reopen the docket is granted.

The Postal Service requests expedited review, but does so without suggesting a time period for comments or Commission decision. Nor does the Postal Service discuss why expedition is necessary, especially in light of the time that has passed since its original request and Order No. 5214.

More than five years has passed since the original request for removal and the Commission has since stated that it would evaluate future requests in light of the RRM Opinion. The Commission will provide interested persons the opportunity to comment on the renewed request for removal of the RRM service.

Pursuant to 39 CFR 3001.45 and 3020.33, the Commission reopens Docket No. MC2015-8 to consider the Postal Service's renewed request to remove RRM service. The Commission invites comments from interested persons on the Renewed Request. Comments are due no later than January 9, 2020.

Pursuant to 39 U.S.C. 505, the Commission appoints R. Tim Boone to represent the interests of the general public (Public Representative) in this docket.

III. Ordering Paragraphs

It is ordered:

1. The Commission grants the Postal Service's motion and reopens Docket No. MC2015-8 to consider the Renewed Request.

2. Comments by interested persons are due by January 9, 2020.

3. Pursuant to 39 U.S.C. 505, R. Tim Boone is appointed to serve as an officer of the Commission (Public Representative) to represent the interests of the general public in this proceeding.

4. The Commission directs the Secretary of the Commission to arrange for prompt publication of this notice in the Federal Register.

By the Commission.
Ruth Ann Abrams,
Acting Secretary.

[FR Doc. 2019-27287 Filed 12-17-19; 8:45 am]

BILLING CODE 7710-FW-P